FEDERAL DEPOSIT INSURANCE CORPORATION

Agency Information Collection Activities: Proposed Collection Renewal; Comment Request; OMB No. 3064-0015

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0015). The notice of the proposed renewal for this information collection was previously published in the Federal Register on November 2, 2023, allowing for a 60-day comment period.

DATES: Comments must be submitted on or before April 11, 2024.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find this particular information collection by selecting “Currently under 30-day Review—Open for Public Comments” or by using the search function.

FOR FURTHER INFORMATION, CONTACT: Jennifer Jones, Regulatory Counsel, 202-898-6768, jennjones@fdic.gov, MB-3078, Federal Deposit Insurance Corporation, 550 17th Street NW, Washington, DC 20429.

SUPPLEMENTARY INFORMATION: Proposal to renew the following currently approved collection of information:

1. Title: Interagency Bank Merger Application.

OMB Number: 3064-0015.

Form Number: 6220/01.

Affected Public: FDIC-insured depository institutions.

Burden Estimate:

Summary of Annual Burden
Information collection description | Type of burden | Obligation to respond | Estimated number of respondents | Estimated frequency of responses | Estimated time per response | Estimated annual burden
Interagency Bank Merger Act Application—Affiliated Transactions | Reporting | Mandatory | 103 | On Occasion | 19 | 1,957
Interagency Bank Merger Act Application—Nonaffiliated Transactions | Reporting | Mandatory | 117 | On Occasion | 31 | 3,627

Total Estimated Annual Burden: 5,584 hours.

General Description of Collection: Section 18(c) of the Federal Deposit Insurance Act (FDI Act) requires an insured depository institution (IDI) that wishes to merge or consolidate with any other IDI or, either directly or indirectly, acquire the assets of, or assume liability to pay any deposits made in, any other IDI, to apply for the prior written approval of the responsible agency (the FDIC; the Board of Governors of the Federal Reserve (FRB); or the Office of the Comptroller of the Currency (OCC)).¹ Section 18(c) further requires FDIC approval in connection with any merger transaction involving an IDI and a non-insured entity.

¹ 12 U.S.C. 1828(c). The FDIC is the responsible agency if the acquiring, assuming, or resulting bank is to be a State nonmember insured bank or a State savings association.

The Interagency Bank Merger Act Application Form (Application Form) is used by the FDIC, the FRB, and the OCC for applications under Section 18(c) of the FDI Act. The Application Form may be used for any merger transaction subject to Section 18(c). There is a different level of burden for each of the two types of merger transactions, nonaffiliated and affiliated. An affiliate transaction refers to a merger, consolidation, other combination, or transfer of any deposit liabilities, between an IDI and another entity controlled by the same parent company, regardless of whether the other entity is FDIC-insured. It includes a business combination between an IDI and an affiliated interim institution. Applicants proposing affiliate transactions are not required to complete questions 12 through 14 of the Application Form. If the merging entities are not controlled by the same parent company, the merger transaction is considered nonaffiliated, and the applicant must complete the entire application form.

The FDIC Supplement to the Interagency Bank Merger Act Application Form (Supplement) requires each applicant to provide information that delineates the relevant geographic market(s) and describes the competition in the relevant geographic market(s). The information collected focuses on the relevant geographic market(s) where the applicant and the entity to be acquired provide banking products or services. The Supplement includes specific instructions to facilitate a comprehensive competitive analysis relative to transactions between nonaffiliated entities.

There is no change in the method or substance of the collection. The 62-hour decrease in burden hours is the result of updated data available.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 6, 2024.
James P. Sheesley,
Assistant Executive Secretary.

[FR Doc. 2024-05166 Filed 3-11-24; 8:45 am]

BILLING CODE 6714-01-P